DEPARTMENT OF ENERGY

Federal Energy Regulatory Commission

[Docket No. RM07-18-000]

Elimination of FERC Form No. 423; Notice Providing for Termination of Collection of FERC Form No. 423

March 28, 2008.

On March 11, 2008, the Commission issued a Final Rule in the above-referenced proceeding, amending its regulations at 18 CFR 141.61, to eliminate the collection of the FERC Form No. 423, “Monthly Report of Cost and Quality of Fuels for Electric Plants” (Form 423), 122 FERC ¶ 61,225 (2008). The Commission stated that it intended to cease collection of the Form 423 ending with the December 2007 report, which was due February 15, 2008, but that it would coordinate its actions with the Energy Information Administration's (EIA) collection of this data on its newly authorized EIA-923, “Power Plant Operations Report” to ensure that there would not be a break in the monthly collection of data. EIA has indicated that it will begin the collection of its EIA-923 starting with the January 2008 report.

The Commission by this notice therefore announces that it has terminated collection of the Form 423 ending with the December 2007 report, which was due February 15, 2008.

Kimberly D. Bose,
Secretary.

[FR Doc. E8-7281 Filed 4-7-08; 8:45 am]

BILLING CODE 6717-01-P